DEPARTMENT OF ENERGY

Federal Energy Regulatory Commission

Combined Notice of Filings

Take notice that the Commission has received the following Natural Gas Pipeline Rate and Refund Report filings:

Filings Instituting Proceedings

Docket Numbers: PR14-27-001.

Applicants: Enable Oklahoma Intrastate Transmission, LLC.

Description: Tariff filing per 284.123/.224: Refiling of SOC Applicable to Transportation Services effective 4/3/2014; TOFC: 790.

Filed Date: 4/3/14.

Accession Number: 20140403-5126.

Comments Due: 5 p.m. ET 4/15/14.

Docket Numbers: RP14-716-000.

Applicants: GeoMet, Inc., ARP Mountaineer Production, LLC.

Description: Request of Waiver for capacity release due to asset transfer of GeoMet, Inc., et. al.

Filed Date: 4/2/14.

Accession Number: 20140402-5217.

Comments Due: 5 p.m. ET 4/9/14.

Docket Numbers: RP14-717-000.

Applicants: Black Marlin Pipeline Company.

Description: Annual Cash-Out Report of Black Marlin Pipeline Company.

Filed Date: 4/3/14.

Accession Number: 20140403-5116.

Comments Due: 5 p.m. ET 4/15/14.

Docket Numbers: RP14-718-000.

Applicants: Alliance Pipeline L.P.

Description: FERC Docket RP14-442.

Filed Date: 4/3/14.

Accession Number: 20140403-5186.

Comments Due: 5 p.m. ET 4/15/14.

Docket Numbers: RP14-719-000.

Applicants: Great Lakes Gas Transmission Limited Par.

Description: Great Lakes Gas Transmission Annual Operational Purchases and Sales Report.

Filed Date: 4/4/14.

Accession Number: 20140404-5119.

Comments Due: 5 p.m. ET 4/16/14.

Docket Numbers: RP14-720-000.

Applicants: East Tennessee Natural Gas, LLC.

Description: Hess 4-1-2014 release to be effective 4/1/2014.

Filed Date: 4/4/14.

Accession Number: 20140404-5222.

Comments Due: 5 p.m. ET 4/16/14.

Docket Numbers: RP14-721-000.

Applicants: Saltville Gas Storage Company L.L.C.

Description: Hess 4-1-2014 release to be effective 4/1/2014.

Filed Date: 4/4/14.

Accession Number: 20140404-5223.

Comments Due: 5 p.m. ET 4/16/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2014.
Nathaniel J. Davis, Sr.,
Deputy Secretary.

[FR Doc. 2014-08867 Filed 4-17-14; 8:45 am]

BILLING CODE 6717-01-P